DEPARTMENT OF COMMERCE

International Trade Administration

[A-821-819]

Notice of Antidumping Duty Order: Magnesium Metal From the Russian Federation

AGENCY: Import Administration, International Trade Administration, Department of Commerce.

SUMMARY: Based on affirmative final determinations by the Department of Commerce (the Department) and the U.S. International Trade Commission (ITC), the Department is issuing an antidumping duty order on magnesium metal from the Russian Federation (Russia). On April 11, 2005, the ITC notified the Department of its affirmative determination of injury to a U.S. industry (Magnesium from China and Russia, Investigations Nos. 731-TA-1071 and 1072 (Final), Publication 3763, April 2005).

EFFECTIVE DATE: April 15, 2005.

FOR FURTHER INFORMATION CONTACT: Mark Hoadley, Kimberley Hunt, or Joshua Reitze at (202) 482-3148, (202) 482-1272, and (202) 482-0666, respectively; AD/CVD Operations, Office 6, Import Administration, International Trade Administration, U.S. Department of Commerce, 14th Street and Constitution Avenue, NW., Washington, DC 20230.

SUPPLEMENTARY INFORMATION

Background

The final determination in this investigation was published on February 24, 2005. See Magnesium Metal From the Russian Federation: Notice of Final Determination of Sales at Less Than Fair Value, 70 FR 9041 (February 24, 2005) (Final Determination). An amended final determination was published on March 29, 2005, to correct ministerial errors which occurred in the calculation of the rates as published in the Final Determination. See Magnesium Metal From the Russian Federation: Notice of Amended Final Determination of Sales at Less Than Fair Value, 70 FR 15837 (March 29, 2005) (Amended Final Determination). In the Amended Final Determination, the Department amended the rate of one respondent as well as the all others' rate.

Scope of the Order

The merchandise covered by this order is magnesium metal (also referred to as magnesium), which includes primary and secondary pure and alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this order includes blends of primary and secondary magnesium.

The subject merchandise includes the following pure and alloy magnesium metal products made from primary and/or secondary magnesium, including, without limitation, magnesium cast into ingots, slabs, rounds, billets, and other shapes, and magnesium ground, chipped, crushed, or machined into raspings, granules, turnings, chips, powder, briquettes, and other shapes: (1) Products that contain at least 99.95 percent magnesium, by weight (generally referred to as “ultra-pure” magnesium); (2) products that contain less than 99.95 percent but not less than 99.8 percent magnesium, by weight (generally referred to as “pure” magnesium); and (3) chemical combinations of magnesium and other material(s) in which the magnesium content is 50 percent or greater, but less than 99.8 percent, by weight, whether or not conforming to an “ASTM Specification for Magnesium Alloy.”

The scope of this order excludes: (1) Magnesium that is in liquid or molten form; and (2) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.¹

¹ This second exclusion for magnesium-based reagent mixtures is based on the exclusion for reagent mixtures in the 2000-2001 investigations of magnesium from China, Israel, and Russia. See Final Determination of Sales at Less Than Fair Value: Pure Magnesium in Granular Form From the People's Republic of China, 66 FR 49345 (September 27, 2001); Final Determination of Sales at Less Than Fair Value: Pure Magnesium From Israel, 66 FR 49349 (September 27, 2001); Final Determination of Sales at Not Less Than Fair Value: Pure Magnesium From the Russian Federation, 66 FR 49347 (September 27, 2001). These mixtures are not magnesium alloys, because they are not chemically combined in liquid form and cast into the same ingot.

The merchandise subject to this order is currently classifiable under items 8104.11.00, 8104.19.00, 8104.30.00, and 8104.90.00 of the Harmonized Tariff Schedule of the United States (HTSUS). Although the HTSUS items are provided for convenience and customs purposes, the written description of the merchandise under investigation is dispositive.

Antidumping Duty Order

On April 11, 2005, in accordance with section 735(d) of the Tariff Act of 1930, as amended (the Act), the ITC notified the Department of its final determination pursuant to section 735(b)(1)(A)(i) of the Act that an industry in the United States is materially injured by reason of less-than-fair-value imports of magnesium from Russia. Therefore, in accordance with section 736(a)(1) of the Act, the Department will direct U.S. Customs and Border Protection (CBP) to assess, upon further instruction by the Department, antidumping duties equal to the amount by which the normal value of the merchandise exceeds the export price (or the constructed export price) of the merchandise for all relevant entries of magnesium from Russia. These antidumping duties will be assessed on all entries of magnesium from Russia entered, or withdrawn from warehouse, for consumption on or after October 4, 2004, the date on which the Department published its notice of preliminary determination in the Federal Register. See Notice of Preliminary Determination of Sales at Less Than Fair Value and Postponement of Final Determination: Magnesium Metal From the Russian Federation, 69 FR 59197 (October 4, 2004) (Preliminary Determination).

Section 733(d) of the Act states that instructions issued pursuant to an affirmative preliminary determination may not remain in effect for more than four months except where exporters representing a significant proportion of exports of the subject merchandise request the Department to extend that four-month period to no more than six months. At the request of exporters that account for a significant proportion of the Russian exports of subject merchandise, we extended the four-month period to no more than six months. See Preliminary Determination. In this investigation, the six-month period beginning on the date of the publication of the Preliminary Determination ended on April 1, 2005. Furthermore, section 737 of the Act states that definitive duties are to begin on the date of publication of the ITC's final injury determination. Therefore, in accordance with section 733(d) of the Act and our practice, we will instruct CBP to terminate the suspension of liquidation and to liquidate, without regard to antidumping duties, unliquidated entries of magnesium from Russia entered, or withdrawn from warehouse, for consumption on or after April 2, 2005, and before the date of publication of the ITC 's final injury determination in the Federal Register. Suspension of liquidation will continue on or after this date.

Effective on the date of publication of the ITC's final affirmative injury determination, CBP officers must require, at the same time as importers would normally deposit estimated duties on this merchandise, a cash deposit equal to the estimated weighted-average antidumping duty margins as noted below. The all others' rate applies to all manufacturers and exporters of subject merchandise not specifically listed. The weighted-average dumping margins are as follows:

Manufacturer/exporter | Margin (percent)
JSC AVISMA Titanium-Magnesium Works | 21.71
Solikamsk Magnesium Works | 18.65
All Others' | 21.01

Pursuant to section 736(a) of the Act, this notice constitutes the antidumping duty order with respect to magnesium metal from Russia. Interested parties may contact the Department's Central Records Unit, Room B-099 of the main Commerce Building, for copies of an updated list of antidumping duty orders currently in effect.

This order is issued and published in accordance with section 736(a) of the Act and 19 CFR 351.211.

Dated: April 12, 2005.
Joseph A. Spetrini,
Acting Assistant Secretary for Import Administration.

[FR Doc. E5-1791 Filed 4-14-05; 8:45 am]

BILLING CODE 3510-DS-P